DEPARTMENT OF THE INTERIOR

National Park Service

[NPS-WASO-NAGPRA-16417; PPWOCRADN0-PCU00RP14.R50000]

Notice of Intent To Repatriate Cultural Items: Arizona State Museum, University of Arizona, Tucson, AZ

AGENCY: National Park Service, Interior.

ACTION: Notice.

SUMMARY: The Arizona State Museum, in consultation with the appropriate Indian tribes or Native Hawaiian organizations, has determined that the cultural items listed in this notice meet the definition of unassociated funerary objects. Lineal descendants or representatives of any Indian tribe or Native Hawaiian organization not identified in this notice that wish to claim these cultural items should submit a written request to the Arizona State Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Arizona State Museum at the address in this notice by October 10, 2014.

ADDRESSES: John McClelland, NAGPRA Coordinator, P.O. Box 210026, Arizona State Museum, University of Arizona, Tucson, AZ 85721, telephone (520) 626-2950.

SUPPLEMENTARY INFORMATION: Notice is here given in accordance with the Native American Graves Protection and Repatriation Act (NAGPRA), 25 U.S.C. 3005, of the intent to repatriate cultural items under the control of Arizona State Museum, University of Arizona, Tucson, AZ, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1976-1978, 68 cultural items were removed from the Hardy Site, AZ BB:9:14(ASM), in Pima County, AZ. The legally authorized excavations were conducted by the University of Arizona and Arizona State Museum (ASM) under the direction of Linda Gregonis and Karl Reinhard as part of a field school. At the end of excavations, the archeological collections were brought to ASM and assigned an accession number. The 68 unassociated funerary objects are 1 ceramic bowl, 1 ceramic jar, 58 ceramic sherds, 1chipped stone fragment, 1 chipped stone knife, 1 shell artifact, 1 shell artifact fragment, 1 shell bracelet fragment, 1 shell disk, and 2 stone projectile points. The Hardy Site is a multi-component site with occupations in the historical period associated with Fort Lowell, as well as prehistoric components from the Early Ceramic and Hohokam cultural periods. Based on ceramic typologies, the cultural items likely date to a major occupation during the Canada del Oro phase of the Hohokam Colonial Period (A.D. 750-900).

In 1931-1940, 29 cultural items were removed from University Indian Ruin, AZ BB:9:33 (ASM), in Pima County, AZ. Legally authorized excavations in the years 1931 to 1939 were conducted by the University of Arizona and ASM under the direction Byron Cummings and Emil Haury. In a separate project in 1940, legally authorized excavations were conducted by the Civilian Conservation Corps under the direction of Julian D. Hayden. At the end of each excavation, the archeological collections were brought to ASM and assigned accession numbers. The 29 unassociated funerary objects are 2 bone artifacts, 2 bone awls, 2 ceramic bowls, 3 ceramic bowl fragments, 1 ceramic disk, 5 ceramic jars, 3 ceramic jar fragments, 5 crystals, 4 stones, 1 stone artifact, and 1 stone pendant. The University Indian Ruin site consists of surface remains, sub-surface dwellings, a platform mound, possible smaller mounds, and adobe room blocks. Temporally diagnostic ceramics recovered from the site indicate that it was occupied during the Tanque Verde and Tucson phases of the Hohokam Classic period (A.D. 1100-1450).

In 1968-1969, 169 cultural items were removed from Whiptail Ruin, BB:10:3(ASM), in Pima County, AZ. The legally authorized excavations were conducted by the Arizona Archaeological and Historical Society, the University of Arizona, and Pima Community College under the direction of Linda Gregonis, Gayle Hartmann, and Sharon Urban. At the end of excavations, the archeological collections were brought to ASM and assigned accession numbers. The 169 unassociated funerary objects are 127 ceramic sherds and 42 chipped stones. Whiptail Ruin is a multi-component village site with Late Archaic (1500 B.C.-A.D. 200), Hohokam (A.D. 500-1300), and historical components (A.D. 1800-1950). The cultural items come from Hohokam period features that date to the Hohokam Classic period from A.D. 1200-1300.

In 1982-1983, 2 cultural items were removed from the Rincon Community at Valencia Site, AZ BB:13:74(ASM), in Pima County, AZ. The legally authorized excavations were conducted by Complete Archaeological Services Associates under the direction of Bruce A. Bradley for the City of Tucson. At the end of the excavations, the archeological collections were brought to ASM and assigned an accession number. The 2 unassociated funerary objects are 1 ceramic pendant and 1 ceramic vessel. The Rincon Community at Valencia Site is a multicomponent site with several Late Archaic and Hohokam pithouses. Based on ceramic typologies, the cultural items date to the Hohokam Classic Period during the Tanque Verde phase (A.D. 1150-1300).

In 1927, 2 cultural items were removed from the Tanque Verde Ruin site, AZ BB:14:1(ASM), in Pima County, AZ. The legally authorized excavations were conducted by the University of Arizona under the direction of Edward John Hands. At the end of the excavations, the archeological collections were brought ASM and assigned an accession number. The 2 unassociated funerary objects are 1 ceramic jar and 1 stone pendant. Tanque Verde Ruin was a Hohokam pit house village on a flat-topped ridge and is located in the Rincon Valley of the Tucson Basin. Based on ceramic typologies of the associated funerary vessels, these cultural items likely date to the Hohokam Classic period during the Tanque Verde phase (A.D. 1150-1300).

In 1960, 2 cultural items were removed from the 49ers Country Club Sewer Line site, AZ BB:14:17(ASM), in Pima County, AZ. Construction of a sewer line resulted in the inadvertent discovery of human cremation burials. The construction workers removed vessels associated with the burials, but did not retain the human remains. In 1964, the workers donated two of the items to ASM. The 2 unassociated funerary objects are 2 ceramic jars. AZ BB:14:17(ASM) is a multi-component site with a long history of human occupation from the Late Archaic period through historical times. Based on the ceramic typology, the cultural items likely belong to the Hohokam cultural period (A.D. 500-1450).

In 1965, 2 cultural items were removed from the Fenster Ranch School site, AZ BB:14:24(ASM), in Pima County, AZ. The excavations were conducted by Jack L. Zahniser and the Fenster Ranch School students on private land with the permission of the owner. Several cremations and inhumations were discovered, but there is no record of the human remains being collected. The archeological collections were donated to ASM in 1965. The 2 unassociated funerary objects are 2 ceramic jars. The Fenster Ranch School site is a large village complex that includes slab-lined pithouses, dense midden deposits, and bedrock mortars. Based on ceramic typologies, the site was primarily occupied during the Hohokam Classic period (A.D. 1150-1450).

Prehistoric settlements in the Tucson Basin of southern Arizona are characterized by archeologists as belonging to two distinctive and consecutive cultural traditions beginning with the Late Archaic/Early Agricultural period and concluding with the Hohokam period. Recent archeological investigations have added support to the hypothesis that the Hohokam tradition arose from the earlier horizon, based on continuities in settlement pattern, architectural technologies, irrigation technologies, subsistence patterns, and material culture. It has been difficult for archeologists to date the beginning of the Hohokam period because the appearance of its distinctive cultural traits, including ceramic technologies and mortuary patterns was a gradual process spanning several hundred years. This adds further support to the hypothesis that the Hohokam tradition evolved in place from earlier Late Archaic traditions. Linguistic evidence furthermore suggests that the Hohokam tradition was multiethnic in nature.

Cultural continuity between these prehistoric occupants of the Tucson Basin and present day O'odham peoples is supported by continuities in settlement pattern, architectural technologies, basketry, textiles, ceramic technology, and ritual practices. Oral traditions that are documented for the Ak Chin Indian Community of the Maricopa (Ak Chin) Indian Reservation, Arizona; Gila River Indian Community of the Gila River Indian Reservation, Arizona; Salt River Pima-Maricopa Indian Community of the Salt River Reservation, Arizona; and the Tohono O'odham Nation of Arizona support cultural affiliation with Late Archaic/Early Agricultural period and Hohokam sites in southern Arizona.

Oral traditions that are documented for the Hopi Tribe also support cultural affiliation with Late Archaic/Early Agricultural period and Hohokam sites in the region. Several Hopi clans and religious societies are derived from ancestors who migrated from the south and likely identified with the Hohokam tradition.

Oral traditions of medicine societies and kiva groups of the Zuni Tribe recount migration from distant portions of the Southwest to present day Zuni and supports affiliation with Hohokam and Late Archaic traditions. Historical linguistic analysis also suggests interaction between ancestral Zuni and Uto-Aztecan speakers during the late Hohokam period.

Determinations Made by the Arizona State Museum

Officials of the ASM have determined that:

• Pursuant to 25 U.S.C. 3001(3)(B), the 274 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico.

Additional Requestors and Disposition

Lineal descendants or representatives of any Indian tribe or Native Hawaiian organization not identified in this notice that wish to claim these cultural items should submit a written request with information in support of the claim to John McClelland, NAGPRA Coordinator, P.O. Box 210026, Arizona State Museum, University of Arizona, Tucson, AZ 85721, telephone (520) 626-2950, by October 10, 2014. After that date, if no additional claimants have come forward, transfer of control of the unassociated funerary objects to the Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico, may proceed.

The Arizona State Museum is responsible for notifying the Ak Chin Indian Community of the Maricopa (Ak Chin) Indian Reservation, Arizona; Gila River Indian Community of the Gila River Indian Reservation; Hopi Tribe of Arizona; Salt River Pima-Maricopa Indian Community of the Salt River Reservation, Arizona; Tohono O'odham Nation of Arizona; and Zuni Tribe of the Zuni Reservation, New Mexico, that this notice has been published.

Dated: August 1, 2014.
Melanie O'Brien,
Acting Manager, National NAGPRA Program.

[FR Doc. 2014-21490 Filed 9-9-14; 8:45 am]

BILLING CODE 4312-50-P